DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 16C-17, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 1, 2003, through September 30, 2003.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Vaccine Injury Compensation Program, Special Programs Bureau, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Veronica Hagopian on behalf of Gohar Hagopian, Dallas, Texas, Court of Federal Claims Number 03-1619V

2. Shirley and Robert Marcum on behalf of Andrew Marcum, Dallas, Texas, Court of Federal Claims Number 03-1620V

3. Christa and Rich Corley on behalf of Chase Corley, Dallas, Texas, Court of Federal Claims Number 03-1621V

4. Bobbie and Jonathan Walls on behalf of Jessica Nicole Walls, Dallas, Texas, Court of Federal Claims Number 03-1622V

5. Tina and Jerry Stewart on behalf of Saadi Stewart, Deceased, Pensacola, Florida, Court of Federal Claims Number 03-1626V

6. Louise and Andrew Nawrocki on behalf of Matthew James Nawrocki, Hoffman Estates, Illinois, Court of Federal Claims Number 03-1628V

7. Melinda and Robert Needs on behalf of Jacob Riley Needs, Dallas, Texas, Court of Federal Claims Number 03-1629V

8. Dorothy and Kevin Lind on behalf of Nelson Lind, Dallas, Texas, Court of Federal Claims Number 03-1630V

9. Shanna and Mark Patterson on behalf of Kristan Shay Patterson, Dallas, Texas, Court of Federal Claims Number 03-1631V

10. Winona and Robert Leonards on behalf of Matthew Thomas Leonards, Salisbury, North Carolina, Court of Federal Claims Number 03-1632V

11. Lisa Zehl on behalf of Matthew Zehl, Cliffwood Beach, New Jersey, Court of Federal Claims Number 03-1633V

12. Suzanne and Julius Schwartz on behalf of Tristan Schwartz, Great Neck, New York, Court of Federal Claims Number 03-1634V

13. Kimberly A. Parker on behalf of Quenton Foster, Houston, Texas, Court of Federal Claims Number 03-1635V

14. Patricia Solorzano and Steve Deharo on behalf of Andrew Deharo, Houston, Texas, Court of Federal Claims Number 03-1636V

15. Randy Nunez on behalf of Jason Daniel Nunez, Houston, Texas, Court of Federal Claims Number 03-1637V

16. Sarah and Greg Swindell on behalf of Dawson Swindell, Houston, Texas, Court of Federal Claims Number 03-1638V

17. Linda Swarny on behalf of Stephen Swarny, Houston, Texas, Court of Federal Claims Number 03-1639V

18. Kristine and Gary Miller on behalf of John W. Miller, Houston, Texas, Court of Federal Claims Number 03-1640V

19. April Awkward on behalf of Jamia Awkward, Towson, Maryland, Court of Federal Claims Number 03-1641V

20. Jennifer and Trevor Stephens on behalf of Travis Stephens, Philadelphia, Pennsylvania, Court of Federal Claims Number 03-1642V

21. Melanie and Richard Demmler on behalf of Rebecca N. Demmler, Melbourne, Florida, Court of Federal Claims Number 03-1643V

22. Allison Seaman on behalf of Matthew Seaman, Miami, Florida, Court of Federal Claims Number 03-1644V

23. Stacy McClelland on behalf of Denay O. McClelland, Miami, Florida, Court of Federal Claims Number 03-1645V

24. Carol and Joseph Buckley on behalf of Savannah E. Buckley, Miami, Florida, Court of Federal Claims Number 03-1646V

25. Rita Parry on behalf of Robert J. Parry, Miami, Florida, Court of Federal Claims Number 03-1647V

26. Jody and Gregory Mortimer on behalf of Alexander Mortimer, Miami, Florida, Court of Federal Claims Number 03-1648V

27. Jan and Kevin Crump on behalf of Nicholas Crump, Philadelphia, Pennsylvania, Court of Federal Claims Number 03-1649V

28. Zaira Valdes on behalf of Jamie Valdes, Miami, Florida, Court of Federal Claims Number 03-1650V

29. Zaira Valdes on behalf of Odalys Valdes, Miami, Florida, Court of Federal Claims Number 03-1651V

30. Denise Thomas on behalf of Isaac Thomas, Miami, Florida, Court of Federal Claims Number 03-1652V

31. Patricia Anastasia Richard and Dean Preston Element on behalf of Jackson Element, Philadelphia, Pennsylvania, Court of Federal Claims Number 03-1654V

32. Matthew Lawler on behalf of Michael Lawlor, Freemont, California, Court of Federal Claims Number 03-1655V

33. Kari Lambert on behalf of Conor Lambert, Chicago, Illinois, Court of Federal Claims Number 03-1657V

34. Tatjana and Dragan Radulovic on behalf of Peter Radulovic, Miami, Florida, Court of Federal Claims Number 03-1658V

35. Tatjana and Dragan Radulovic on behalf of Mark Radulovic, Miami, Florida, Court of Federal Claims Number 03-1659V

36. Avigail and Robert Posner on behalf of Eden Posner, Miami, Florida, Court of Federal Claims Number 03-1660V

37. Paulette and Dennis Kelly on behalf of Tyler Kelly, Miami, Florida, Court of Federal Claims Number 03-1661V

38. Kerry and Kevin Connor on behalf of Chase Thomas Connor, Miami, Florida, Court of Federal Claims Number 03-1662V

39. Paulette Rozier on behalf of Mesha Rozier, Miami, Florida, Court of Federal Claims Number 03-1663V

40. Tina and Kenji Kerns on behalf of Cearle Victoria Regan Kerns, Saint Augustine, Florida, Court of Federal Claims Number 03-1664V

41. Billie Jo Rasmussen on behalf of Joshua Rasmussen, Miami, Florida, Court of Federal Claims Number 03-1666V

42. Billie Jo Rasmussen on behalf of Adam Rasmussen, Miami, Florida, Court of Federal Claims Number 03-1667V

43. Shannon and James Winch on behalf of David Winch, Miami, Florida, Court of Federal Claims Number 03-1668V

44. Natalie Murphy on behalf of Joshua T. Murphy, North Augusta, South Carolina, Court of Federal Claims Number 03-1669V

45. Patti and Paul Moss on behalf of Trevor Ian Moss, Richmond, Virginia, Court of Federal Claims Number 03-1670V

46. Arnold Barton on behalf of Bonney Barton, Boston, Massachusetts, Court of Federal Claims Number 03-1672V

47. Catherine and Michael Burns on behalf of Brett Burns, Bala Cynwyd, Pennsylvania, Court of Federal Claims Number 03-1674V

48. Sophia Praskala on behalf of Jacob Praskala, Bala Cynwyd, Pennsylvania, Court of Federal Claims Number 03-1675V

49. Laura and James Purcell on behalf of Adam James Purcell, Bala Cynwyd, Pennsylvania, Court of Federal Claims Number 03-1676V

50. Linda and Frank Kuepper on behalf of Michael Kuepper, Bala Cynwyd, Pennsylvania, Court of Federal Claims Number 03-1679V

51. Beth and John Andrew Stokes on behalf of Kristen April Stokes, Norfolk, Virginia, Court of Federal Claims Number 03-1680V

52. Jennifer and James Magner on behalf of Jeffrey B. Magner, Virginia Beach, Virginia, Court of Federal Claims Number 03-1681V

53. Tammy Cooper on behalf of Mason Cheeks, Alexandria, Virginia, Court of Federal Claims Number 03-1682V

54. Nichol Riley on behalf of Darius Riley, Alexandria, Virginia, Court of Federal Claims Number 03-1683V

55. Lena and Cecil Wilkerson on behalf of Michaelah Wilkerson, Jacksonville, Florida, Court of Federal Claims Number 03-1685V

56. Jill and William Layton on behalf of Matthew Layton, Jacksonville, Florida, Court of Federal Claims Number 03-1686V

57. Virginia and Michael Downs on behalf of Kayla Downs, Jacksonville, Florida, Court of Federal Claims Number 03-1687V

58. Amy and Donald Beliakoff on behalf of David Michael Beliakoff, Jacksonville, Florida, Court of Federal Claims Number 03-1688V

59. Kimberli Kae Mohling and Hugh Grant Mohling on behalf of Izaak Xavier Mohling, Cape Girardeau, Missouri, Court of Federal Claims Number 03-1689V

60. Margaret and Jon Molvie on behalf of George Thomas Molvie, Cape Girardeau, Missouri, Court of Federal Claims Number 03-1690V

61. Rita and Arnie Shreffler on behalf of Andrew Cave Shreffler, Cape Girardeau, Missouri, Court of Federal Claims Number 03-1691V

62. Jeannie Urban on behalf of Dustin Wayne Adams, Cape Giraudeau, Missouri, Court of Federal Claims Number 03-1692V

63. Rita and Arnie Shreffler on behalf of Mary Kathryn Shreffler, Cape Girardeau, Missouri, Court of Federal Claims Number 03-1693V

64. Barbara and John Meister on behalf of Joshua Martin Meister, Cape Girardeau, Missouri, Court of Federal Claims Number 03-1694V

65. Jennifer Kozlowski on behalf of Travis Kozlowski, Boston, Massachusetts, Court of Federal Claims Number 03-1695V

66. Enrique Paradoa on behalf of Matthew Paradoa, Boston, Massachusetts, Court of Federal Claims Number 03-1696V

67. Kory McKnight on behalf of Kameron McKnight, Boston, Massachusetts, Court of Federal Claims Number 03-1697V

68. Amy Koring on behalf of Aric Koring, Boston, Massachusetts, Court of Federal Claims Number 03-1698V

69. George Jones on behalf of Ryan Jones, Boston, Massachusetts, Court of Federal Claims Number 03-1699V

70. George Jones on behalf of Hiro Jones, Boston, Massachusetts, Court of Federal Claims Number 03-1700V

71. Jeannie Wilkinson on behalf of Branden Wilkinson, Boston, Massachusetts, Court of Federal Claims Number 03-1701V

72. Jeannie Wilkinson on behalf of Julia Wilkinson, Boston, Massachusetts, Court of Federal Claims Number 03-1702V

73. Shelly Belanger on behalf of Devan Belanger, Boston, Massachusetts, Court of Federal Claims Number 03-1703V

74. Marlene Marshall on behalf of Rashad C. Marshall, Alexandria, Virginia, Court of Federal Claims Number 03-1704V

75. Alicia and Raul Sanchez on behalf of Marcos Raul Sanchez, Temecula, California, Court of Federal Claims Number 03-1705V

76. Barbara Tacoronte and Edward Pineiro on behalf of Allen Michael Pineiro, Sarasota, Florida, Court of Federal Claims Number 03-1706V

77. Laurie Staz-Schelich on behalf of Issac Schelich, Boston, Massachusetts, Court of Federal Claims Number 03-1707V

78. Judy Peters on behalf of Taylor Alsheimer, Bainbridge Island, Washington, Court of Federal Claims Number 03-1708V

79. Annie and M.A. Samuel on behalf of Frank Samuel, Plantation, Florida, Court of Federal Claims Number 03-1709V

80. Kellie Wycoff on behalf of Nicole Wykoff, Portland, Oregon, Court of Federal Claims Number 03-1710V

81. Leanne Weaver on behalf of Gabrielle Weaver, Portland, Oregon, Court of Federal Claims Number 03-1711V

82. Catherine Hickman on behalf of Scott Hickman, Portland, Oregon, Court of Federal Claims Number 03-1712V

83. Rita Stone on behalf of Tyrozz Fields, Portland, Oregon, Court of Federal Claims Number 03-1713V

84. Tresea Meinung on behalf of Tristan Meinung, Portland, Oregon, Court of Federal Claims Number 03-1714V

85. Corrine and James Sexton on behalf of James Sexton, Lockport, Illinois, Court of Federal Claims Number 03-1715V

86. Dianne Benedict on behalf of David Benedict, Jr., Dover, New Hampshire, Court of Federal Claims Number 03-1716V

87. Deborah and Michael Rosenblatt on behalf of Samuel Rosenblatt, Miami, Florida, Court of Federal Claims Number 03-1717V

88. Kimberly Dawn Lee and Thomas E. Lee on behalf of Caleb Michael Lee, Fishers, Indiana, Court of Federal Claims Number 03-1718V

89. Teresa Dennis Stuart on behalf of Coby Lee Bunn-Stuart, Deceased, Griffin, Georgia, Court of Federal Claims Number 03-1719V

90. Jenine and Karl Jackson on behalf of Karl Chez Elisha Jackson, Jacksonville, Florida, Court of Federal Claims Number 03-1722V

91. Cindy and Dale Stelbasky on behalf of Ryan Stelbasky, Strongsville, Ohio, Court of Federal Claims Number 03-1723V

92. Stephanie Lay on behalf of Bryce Lay, Alexandria, Virginia, Court of Federal Claims Number 03-1725V

93. Matthew Thomas on behalf of Henry Nathaniel Thomas, Somers Point, New Jersey, Court of Federal Claims Number 03-1726V

94. Roberta Cruz on behalf of Gerardo R. Cruz, Somers Point, New Jersey, Court of Federal Claims Number 03-1727V

95. Deborah Carey on behalf of James Robert Carey, Salisbury, North Carolina, Court of Federal Claims Number 03-1728V

96. Ann and Brian Pysher on behalf of Brian Pysher, Melbourne, Florida, Court of Federal Claims Number 03-1729V

97. Donna and Jeff Arnold on behalf of Kevin Leo Arnold, Salisbury, North Carolina, Court of Federal Claims Number 03-1730V

98. Yvette and Harry Strickland on behalf of Alena Denise Strickland, Salisbury, North Carolina, Court of Federal Claims Number 03-1731V

99. Jodi and Eric Neuhof on behalf of Jacob Neuhof, Miami, Florida, Court of Federal Claims Number 03-1732V

100. Crystal and Colin Walker on behalf of Colin Walker, Miami, Florida, Court of Federal Claims Number 03-1733V

101. April and Ted Schroeders on behalf of Daniel Schroeders, Miami, Florida, Court of Federal Claims Number 03-1734V

102. Lynda and Feliberto Vega on behalf of Anthony Vega, Miami, Florida, Court of Federal Claims Number 03-1735V

103. Laura Miller on behalf of Sarah Miller, Miami, Florida, Court of Federal Claims Number 03-1736V

104. Leshia and Sergio Marcos on behalf of Andrew Marcos, Miami, Florida, Court of Federal Claims Number 03-1737V

105. Charlotte and Tony Doran on behalf of Lake Doran, Miami, Florida, Court of Federal Claims Number 03-1738V

106. Cynthia and Richard Irving on behalf of Aaron Irving, Miami, Florida, Court of Federal Claims Number 03-1739V

107. Jodi and Eric Neuhof on behalf of Joshua Neuhof, Miami, Florida, Court of Federal Claims Number 03-1740V

108. Ingrid and Kenneth Lane on behalf of Brandon Lane, Miami, Florida, Court of Federal Claims Number 03-1741V

109. Candace and Cary Bauer on behalf of Christian Alexander Bauer, Rockville, Tennessee, Court of Federal Claims Number 03-1742V

110. Lisa Thompson on behalf of William Thompson, Boston, Massachusetts, Court of Federal Claims Number 03-1744V

111. Leonid Norsworthy on behalf of Paul Norsworthy, Boston, Massachusetts, Court of Federal Claims Number 03-1745V

112. Darla Birchall on behalf of Hannah Birchall, Boston, Massachusetts, Court of Federal Claims Number 03-1746V

113. Janice Davis on behalf of George Davis, Boston, Massachusetts, Court of Federal Claims Number 03-1747V

114. Alesia Morris on behalf of Scott Morris, IV, Boston, Massachusetts, Court of Federal Claims Number 03-1748V

115. Elias Hassan on behalf of Emil Hassan, Boston, Massachusetts, Court of Federal Claims Number 03-1749V

116. Shannon and James Winch on behalf of Ryan Winch, Miami, Florida, Court of Federal Claims Number 03-1752V

117. Nancy and Tim Hokkanen on behalf of Andrew Hokkanen, Minneapolis, Minnesota, Court of Federal Claims Number 03-1753V

118. Nancy Hatfield, Dallas, Texas, Court of Federal Claims Number 03-1754V

119. Estelle and Stephen Doyle on behalf of Alexa Michelle Doyle, New York, New York, Court of Federal Claims Number 03-1756V

120. Estelle and Stephen Doyle on behalf of Grace Juliann Doyle, New York, New York, Court of Federal Claims Number 03-1757V

121. Nancy and Guiseppe Defazio on behalf of Gina Defazio, Wichita, Kansas, Court of Federal Claims Number 03-1758V

122. Monica Silverio on behalf of David Silverio, Philadelphia, Pennsylvania, Court of Federal Claims Number 03-1762V

123. Ellen Slysh on behalf of Matthew Slysh, Philadelphia, Pennsylvania, Court of Federal Claims Number 03-1763V

124. Sunday Ezechukwu on behalf of Kennedy Chima Ezechukwu, Temecula, California, Court of Federal Claims Number 03-1764V

125. Cheryl and Patrick Cleary behalf of John Andrew Cleary, Hackensack, New Jersey, Court of Federal Claims Number 03-1768V

126. Barbara and Mark Decker on behalf of Benjamin Decker, Anchorage, Alaska, Court of Federal Claims Number 03-1769V

127. Robin and Thomas Pott on behalf of Elliott Brown-Pott, Phoenix, California, Court of Federal Claims Number 03-1770V

128. Elizabeth Espurvoa on behalf of Gabriella Marie Espurvoa, Houston, Texas, Court of Federal Claims Number 03-1771V

129. Jennifer and Richard Mullen on behalf of Sean Patrick Mullen, Fall River, Massachusetts, Court of Federal Claims Number 03-1772V

130. Debra Lynn Collins on behalf of Dallas Gene Collins, Mount Pleasant, Tennessee, Court of Federal Claims Number 03-1773V

131. Terry Terry on behalf of Zariel Lenee Terry, Reno, Nevada, Court of Federal Claims Number 03-1774V

132. Darlene and Nicholas Downes on behalf of Alannah Mary Downes, Englewood, New Jersey, Court of Federal Claims Number 03-1775V

133. Tamara Kay Bosco and Michael Jeffrey Bosco on behalf of Zachary Taylor Bosco, Van Nuys, California, Court of Federal Claims Number 03-1776V

134. Ruben Maldonado on behalf of Marisa Maldonado, Lansing, Michigan, Court of Federal Claims Number 03-1777V

135. Scott Sanderson on behalf of Drake Sanderson, Houston, Texas, Court of Federal Claims Number 03-1778V

136. Scott Sanderson on behalf of Drew Sanderson, Houston, Texas, Court of Federal Claims Number 03-1779V

137. David Stillman on behalf of Mauricio Stillman, Houston, Texas, Court of Federal Claims Number 03-1780V

138. Kim and Gary Stone on behalf of Austin L. Stone, Houston, Texas, Court of Federal Claims Number 03-1781V

139. Eric Torres on behalf of Timaree Torres, Houston, Texas, Court of Federal Claims Number 03-1782V

140. Tracy Vann on behalf of Mason Vann, Houston, Texas, Court of Federal Claims Number 03-1783V

141. Joe Weiser on behalf of Gina Weiser, Houston, Texas, Court of Federal Claims Number 03-1784V

142. Adaline and Clifton Yamamoto on behalf of Kyle Yamamoto, Houston, Texas, Court of Federal Claims Number 03-1785V

143. Linda and Stephen Bommarito on behalf of Joshua Bommarito, Houston, Texas, Court of Federal Claims Number 03-1786V

144. Garlyn and Paul Serame on behalf of Brendan Serame, Houston, Texas, Court of Federal Claims Number 03-1787V

145. Laura Weinberg on behalf of William J. Aronow, Houston, Texas, Court of Federal Claims Number 03-1788V

146. Diane and Scott Magers on behalf of Tanner R. Magers, Houston, Texas, Court of Federal Claims Number 03-1789V

147. Dena and Brandon Fogle on behalf of Hayden Fogle, Houston, Texas, Court of Federal Claims Number 03-1790V

148. Jeannette and Michael Chernoff on behalf of Michael Chernoff, II, Houston, Texas, Court of Federal Claims Number 03-1791V

149. Marilyn and Wason Carroll on behalf of Caleb Carroll, Houston, Texas, Court of Federal Claims Number 03-1792V

150. Audra and Donald Calloway on behalf of Donald Calloway, III, Houston, Texas, Court of Federal Claims Number 03-1793V

151. Anna and Paul LaMELA on behalf of Nicholas J. LaMELA, Melbourne, Florida, Court of Federal Claims Number 03-1794V

152. Janice Danley on behalf of Roxann Johnette Danley, Great Neck, New York, Court of Federal Claims Number 03-1795V

153. Selena and Daniel Burke on behalf of Nathan Lee Burke, Great Neck, New York, Court of Federal Claims Number 03-1796V

154. Donna Ross-Jones and David Jones on behalf of Nicholas Jones, Great Neck, New York, Court of Federal Claims Number 03-1797V

155. Judith Dennis and Robert Rittenburg on behalf of James Dennis Rittenburg, Atlanta, Georgia, Court of Federal Claims Number 03-1799V

156. Kathy Arena on behalf of Kayla J. Arena, Los Gatos, California, Court of Federal Claims Number 03-1800V

157. Sheila and Ronald Ealey on behalf of Temple L. Ealey, New Orleans, Louisiana, Court of Federal Claims Number 03-1801V

158. Esme Johnston Baglio and Michael Baglio on behalf of Eva Marie Baglio, Wayne, New Jersey, Court of Federal Claims Number 03-1803V

159. Joy LeBron on behalf of Tyler James Dill, Philadelphia, Pennsylvania, Court of Federal Claims Number 03-1804V

160. Laurie and Timothy Fredericks on behalf of Dustin Clay Fredericks, Cape Girardeau, Missouri, Court of Federal Claims Number 03-1805V

161. Kim and A. Bailey Dabney on behalf of Andrew B. Dabney, IV, Miami, Florida, Court of Federal Claims Number 03-1806V

162. John Vitale on behalf of Jarod Vitale, Boston, Massachusetts, Court of Federal Claims Number 03-1807V

163. Kristi Balgord on behalf of Brandon Balgord, Boston, Massachusetts, Court of Federal Claims Number 03-1808V

164. Barbara Roth on behalf of Mason Roth, Boston, Massachusetts, Court of Federal Claims Number 03-1809V

165. Angela Wiens on behalf of Alexander Wiens, Boston, Massachusetts, Court of Federal Claims Number 03-1810V

166. Joel Goloskie on behalf of Ethan Goloskie, Boston, Massachusetts, Court of Federal Claims Number 03-1811V

167. Rhonda and Leonard Quigley on behalf of Jason Quigley, Alexandria, Virginia, Court of Federal Claims Number 03-1814V

168. Brenda Johnson on behalf of Brett Tuers, Alexandria, Virginia, Court of Federal Claims Number 03-1815V

169. Cynthia and Richard Hoffman on behalf of Anthony Hoffman, Houston, Texas, Court of Federal Claims Number 03-1817V

170. Martha and Ricardo Sanchez on behalf of Fernando Sanchez, Vienna, Virginia, Court of Federal Claims Number 03-1819V

171. Donna and Lamile Christopher Hill on behalf of De'Joi C. Hill, Atlanta, Georgia, Court of Federal Claims Number 03-1824V

172. Mildey and Felix Gonzalez on behalf of Alejandro Jose Gonzalez, Melbourne, Florida, Court of Federal Claims Number 03-1826V

173. Linda and John Bean on behalf of Matthew Trevor Bean, Melbourne, Florida, Court of Federal Claims Number 03-1827V

174. Annette Roces on behalf of Mitchell Manning, Miami, Florida, Court of Federal Claims Number 03-1828V

175. Sabra and Patrick Champagne on behalf of Patrick Champagne, Jr., Miami, Florida, Court of Federal Claims Number 03-1829V

176. Darlene Mitnik, Pittsburgh, Pennsylvania, Court of Federal Claims Number 03-1830V

177. Virginia McKinley on behalf of Seth Hollis McKinley, Saraland, Alabama, Court of Federal Claims Number 03-1831V

178. Therese Cassidy on behalf of Michael Anthony Cassidy, Decatur, Texas, Court of Federal Claims Number 03-1833V

179. Adriana and Carlos Lopez on behalf of Carlos Eric Lopez, II, Decatur, Texas, Court of Federal Claims Number 03-1834V

180. Maria and Manuel Arnero on behalf of Azeret Arnero, Decatur, Texas, Court of Federal Claims Number 03-1835V

181. Jose M. Carmona on behalf of Jose M. Carmona, Jr., Decatur, Texas, Court of Federal Claims Number 03-1836V

182. Sandra and Eduardo Del Angel on behalf of Gabriel Del Angel, Decatur, Texas, Court of Federal Claims Number 03-1837V

183. Irene Escamilla on behalf of Carlos Favela, Decatur, Texas, Court of Federal Claims Number 03-1838V

184. Juanita and Ruben Gonzalez on behalf of Vanessa A. Gonzalez, Decatur, Texas, Court of Federal Claims Number 03-1839V

185. Thomasa and Alfonso Martinez on behalf of Andres Alberto Martinez, Decatur, Texas, Court of Federal Claims Number 03-1840V

186. Juan Meza on behalf of Juan Meza, III, Decatur, Texas, Court of Federal Claims Number 03-1841V

187. Michelle Reyes on behalf of Austin James Montez, Decatur, Texas, Court of Federal Claims Number 03-1842V

188. Maria and Jorge Rivera on behalf of Melissa Rivera, Decatur, Texas, Court of Federal Claims Number 03-1843V

189. Sonia Turgeon on behalf of Kevin Turgeon, Decatur, Texas, Court of Federal Claims Number 03-1844V

190. Manuela Jimenez and Edgar Villarreal on behalf of Edgar Mauricio Villarreal, Decatur, Texas, Court of Federal Claims Number 03-1845V

191. Maria E. Villasenor on behalf of Jesus Emmanuel Hernandez, Decatur, Texas, Court of Federal Claims Number 03-1846V

192. Rachel and Robert Wells on behalf of Dylon Wells, Decatur, Texas, Court of Federal Claims Number 03-1847V

193. Nora Linda and Luis Cavazos on behalf of Luis Daniel Cavazos, Decatur, Texas, Court of Federal Claims Number 03-1848V

194. Martha and Carlos Munoz on behalf of Daniel Munoz, Decatur, Texas, Court of Federal Claims Number 03-1849V

195. Sandra Muro on behalf of Ildelfonso Munoz, Decatur, Texas, Court of Federal Claims Number 03-1850V

196. Veronica Perez on behalf of Francisco Javier Perez, Decatur, Texas, Court of Federal Claims Number 03-1851V

197. Veronica Perez on behalf of Mario Alberto Perez, Decatur, Texas, Court of Federal Claims Number 03-1852V

198. Clarissa and Alfredo Perez on behalf of Luis Alfredo Perez, Decatur, Texas, Court of Federal Claims Number 03-1853V

199. Dulce MA. and Jorge Perez on behalf of Jorge Alejandro Perez, Decatur, Texas, Court of Federal Claims Number 03-1854V

200. Marlen and Fitzgerald Sanchez on behalf of Fitzgerald Antonio Sanchez, Decatur, Texas, Court of Federal Claims Number 03-1855V

201. Luis Valdez on behalf of Gabriel Valdez, Decatur, Texas, Court of Federal Claims Number 03-1856V

202. Brigido Alvarez on behalf of Alberto C. Alvarez, Decatur, Texas, Court of Federal Claims Number 03-1857V

203. Doris Arce on behalf of Christopher Arce, Decatur, Texas, Court of Federal Claims Number 03-1858V

204. Rolando Uvalle, Jr. on behalf of Gricelda Uvalle, Decatur, Texas, Court of Federal Claims Number 03-1859V

205. Maria and Antonio Villarreal on behalf of Antonio X. Villarreal, Decatur, Texas, Court of Federal Claims Number 03-1860V

206. Angela and George Meyer on behalf of Timothy Brown Meyer, Atlanta, Georgia, Court of Federal Claims Number 03-1866V

207. Robin Komyakevitch on behalf of Ivan Komyakevitch, Miami, Florida, Court of Federal Claims Number 03-1867V

208. Marilyn Caldiero-Martinucci and John Martinucci on behalf of Matthew John Martinucci, New York, New York, Court of Federal Claims Number 03-1876V

209. Thomas Stewart, Pemberton, New Jersey, Court of Federal Claims Number 03-1877V

210. Kelly Craig-Kennelly and Edward Kennelly on behalf of Hillary Kennelly, Eldersburg, Maryland, Court of Federal Claims Number 03-1878V

211. Janette Pedraza on behalf of Ariana Rivera, Boston, Massachusetts, Court of Federal Claims Number 03-1880V

212. Edie Maske on behalf of John West, Boston, Massachusetts, Court of Federal Claims Number 03-1881V

213. Arley Collins on behalf of Brandon Collins, Boston, Massachusetts, Court of Federal Claims Number 03-1882V

214. Andrea Abeyta on behalf of Antonio Abeyta, Boston, Massachusetts, Court of Federal Claims Number 03-1883V

215. Domenick Domanico on behalf of Luke Domanico, Boston, Massachusetts, Court of Federal Claims Number 03-1884V

216. Patricia Quint on behalf of Dylan Quint, Boston, Massachusetts, Court of Federal Claims Number 03-1885V

217. Eve Morales on behalf of Harrison Morales, Boston, Massachusetts, Court of Federal Claims Number 03-1886V

218. Christopher Malueg on behalf of William Henry Malueg, Boston, Massachusetts, Court of Federal Claims Number 03-1887V

219. Tami Mills on behalf of Sam Borgens, Boston, Massachusetts, Court of Federal Claims Number 03-1888V

220. Kimberly Hrycenko on behalf of Nicholas Hrycenko, Boston, Massachusetts, Court of Federal Claims Number 03-1889V

221. Caroline and Denis Troia on behalf of Taylor John Troia, Madison, Wisconsin, Court of Federal Claims Number 03-1890V

222. Sherry Conklin on behalf of Jason Conklin, Portland, Oregon, Court of Federal Claims Number 03-1892V

223. Patricia Wigney on behalf of Sophia Wigney, Portland, Oregon, Court of Federal Claims Number 03-1893V

224. Theresa Henry on behalf of Lauren Henry, Portland, Oregon, Court of Federal Claims Number 03-1894V

225. Edward M. Cioffi on behalf of Christopher D. Cioffi, Jacksonville, Florida, Court of Federal Claims Number 03-1895V

226. Amanda Roesch on behalf of Trevor R. Roesch, Melbourne, Florida, Court of Federal Claims Number 03-1896V

227. Carol and Greg Lauer on behalf of Samuel Lauer, Miami, Florida, Court of Federal Claims Number 03-1897V

228. Suzanne and Joseph Cerio on behalf of Halle Cerio, Syracuse, New York, Court of Federal Claims Number 03-1898V

229. Rachel and Perry Thomas on behalf of Perry Lee Thomas, Jr., Robinsdale, Michigan, Court of Federal Claims Number 03-1899V

230. Mark Myers on behalf of Daniel Justin Myers, Crystal Lake, Illinois, Court of Federal Claims Number 03-1900V

231. Antonio Lourenco on behalf of Louis Joseph Lourenco, Woodbury, New York, Court of Federal Claims Number 03-1901V

232. Genevieve Johnson on behalf of Nicholas Roel Wilburgh, Bronx, New York, Court of Federal Claims Number 03-1902V

233. Sylvia and Deverton Gilfillian on behalf of David Jonathan Gilfillian, White Plains, New York, Court of Federal Claims Number 03-1903V

234. Yolette and Mathias Atana on behalf of Mailry Atana, Eagan, Minnesota, Court of Federal Claims Number 03-1904V

235. Leslie and Robert Bradley on behalf of Lauren B. Bradley, Philadelphia, Pennsylvania, Court of Federal Claims Number 03-1908V

236. Leslie and Robert Bradley on behalf of Jackson B. Bradley, Philadelphia, Pennsylvania, Court of Federal Claims Number 03-1909V

237. Regina Santos-Larralde and John Larralde on behalf of Cristian J. Larralde, Miami, Florida, Court of Federal Claims Number 03-1912V

238. Audrey Blash on behalf of Helen Blash, Deceased, Winter Haven, Florida, Court of Federal Claims Number 03-1913V

239. Lisa and Gregory Macneir on behalf of Drew Morton Macneir, Memphis, Tennessee, Court of Federal Claims Number 03-1914V

240. Wendy and Joseph Alderman on behalf of Robert Alderman, Philadelphia, Pennsylvania, Court of Federal Claims Number 03-1918V

241. Dawn Aho, Waukesha, Wisconsin, Court of Federal Claims Number 03-1920V

242. Thomas Odom on behalf of William Austin Odom, Humbolt, Tennessee, Court of Federal Claims Number 03-1924V

243. Kimberly and Cory Chandler on behalf of Jackson Chandler, Houston, Texas, Court of Federal Claims Number 03-1925V

244. Lisa Scribner on behalf of Taylor Scribner, Houston, Texas, Court of Federal Claims Number 03-1926V

245. Juliet and Cecil Camara on behalf of Sarian Camara, Houston, Texas, Court of Federal Claims Number 03-1927V

246. Carolyn and Raymond Yount on behalf of Chandler Yount, Houston, Texas, Court of Federal Claims Number 03-1928V

247. Terry and Darryl Davidson on behalf of Scott Davidson, Houston, Texas, Court of Federal Claims Number 03-1929V

248. Jaime and Salvador Juarez on behalf of Dominic Juarez, Houston, Texas, Court of Federal Claims Number 03-1930V

249. Judy O'Connor on behalf of Joel Rohrer, Houston, Texas, Court of Federal Claims Number 03-1931V

250. Ileana Lopez on behalf of Corey Slater, Houston, Texas, Court of Federal Claims Number 03-1932V

251. Sheila Lovett on behalf of Megan Lovett, Houston, Texas, Court of Federal Claims Number 03-1933V

252. Barbara and Daniel Sparling on behalf of Benjamin Sparling, Houston, Texas, Court of Federal Claims Number 03-1934V

253. Debra and Jonathan Domingo on behalf of Joshua T. Domingo, Los Angeles, California, Court of Federal Claims Number 03-1935V

254. Nasinet Paulos on behalf of Matthew Semere, Santa Clara, California, Court of Federal Claims Number 03-1936V

255. Kerri and Sam Amato on behalf of Rylee Amato, Sioux Falls, South Dakota, Court of Federal Claims Number 03-1937V

256. Paula Earls on behalf of Jerrad Michael Earls, Corydon, Indiana, Court of Federal Claims Number 03-1938V

257. Suzanne and John Bahmer on behalf of Gino Romeo Defalco, Palm Beach, Florida, Court of Federal Claims Number 03-1939V,

258. Roberta and Linwood Bellamy on behalf of Kareem Bellamy, Philadelphia, Pennsylvania, Court of Federal Claims Number 03-1940V

259. Janice and Frank Tuffy on behalf of Patrick Tuffy, Brandon, Florida, Court of Federal Claims Number 03-1941V

260. Laura Knapp on behalf of Jazmin Knapp, Jay, Oklahoma, Court of Federal Claims Number 03-1943V

261. Renee and Greg Lawrenz on behalf of Patrick Lawrenz, Dallas, Texas, Court of Federal Claims Number 03-1947V

262. Virginia McKinley on behalf of Seth Hollis McKinley, Saraland, Alabama, Court of Federal Claims Number 03-1948V

263. Cynthia and Anthony Rodriguez on behalf of Robert Rodriguez, San Diego, California, Court of Federal Claims Number 03-1949V

264. Lori Rindfleisch on behalf of Madison Rindfleisch, Boston, Massachusetts, Court of Federal Claims Number 03-1952V

265. Cheryl Edwards on behalf of Christian James Edwards, Richmond, Virginia, Court of Federal Claims Number 03-1954V

266. Emily Valentine on behalf of Thomas Valentine, Boston, Massachusetts, Court of Federal Claims Number 03-1957V

267. Carissa Evans on behalf of Logan Evans, Boston, Massachusetts, Court of Federal Claims Number 03-1958V

268. Kimberly Thompson on behalf of Spencer Thompson, Boston, Massachusetts, Court of Federal Claims Number 03-1959V

269. Melinda Franco on behalf of Matthew Franco, Boston, Massachusetts, Court of Federal Claims Number 03-1960V

270. Rachel Sabin on behalf of Thomas Sabin, Boston, Massachusetts, Court of Federal Claims Number 03-1961V

271. Kim and Raymond Nerswick on behalf of Sarah Nerswick, Indianapolis, Indiana, Court of Federal Claims Number 03-1963V

272. Chrisann Shoop on behalf of Harry Shoop, Alexandria, Virginia, Court of Federal Claims Number 03-1964V

273. Andrea and John Corner on behalf of John E. Corner, III, Alexandria, Virginia, Court of Federal Claims Number 03-1965V

274. Jana and John Marshall on behalf of Samuel A. Marshall, Alexandria, Virginia, Court of Federal Claims Number 03-1966V

275. Lien and Van Nguyen on behalf of Brandon Nguyen, Melbourne, Florida, Court of Federal Claims Number 03-1967V

276. Robin and Thomas Havens on behalf of Jacob Havens, Lake Success, New York, Court of Federal Claims Number 03-1968V

277. Jimmie F. Tucker on behalf of Chrisben T. Tucker, Alexandria, Virginia, Court of Federal Claims Number 03-1969V

278. Wanda and Richard Fisher on behalf of Gregg Thomas Fisher, Pelhan, Alabama, Court of Federal Claims Number 03-1970V

279. Traci and Lee Touchton on behalf of Cooper Derrold Touchton, Jacksonville, Florida, Court of Federal Claims Number 03-1971V

280. Lisa and Raymond Oakes on behalf of Conner Douglas Oakes, Melbourne, Florida, Court of Federal Claims Number 03-1972V

281. Deanna Kokoszka on behalf of John H. Kokoszka, Melbourne, Florida, Court of Federal Claims Number 03-1973V

282. Hope Fowler on behalf of Minah Fowler, Boston, Massachusetts, Court of Federal Claims Number 03-1974V

283. Tanya Phinney on behalf of Darron Balch, Boston, Massachusetts, Court of Federal Claims Number 03-1975V

284. Chad Davis on behalf of Drake Davis, Boston, Massachusetts, Court of Federal Claims Number 03-1976V

285. Susan Bassett on behalf of Iam Bassett, Boston, Massachusetts, Court of Federal Claims Number 03-1977V

286. Melissa Metcalf on behalf of Nicholas Metcalf, Boston, Massachusetts, Court of Federal Claims Number 03-1978V

287. Phuangjzin Teng on behalf of Dimiter Roussanov, Boston, Massachusetts, Court of Federal Claims Number 03-1979V

288. Barbara Kort on behalf of Jacob Kort, Boston, Massachusetts, Court of Federal Claims Number 03-1980V

289. Jamie Meidinger on behalf of Jourdan Meidinger, Boston, Massachusetts, Court of Federal Claims Number 03-1981V

290. Maria and Orlando Morales on behalf of Maria Morales, Garden City, New York, Court of Federal Claims Number 03-1982V

291. Kim and Hector Cisneros on behalf of Nathan Cisneros, Melbourne, Florida, Court of Federal Claims Number 03-1985V

292. Michele and Joey Sartain on behalf of Joey Kyle Sartain, Alexandria, Virginia, Court of Federal Claims Number 03-1989V

293. Rachella and Steven Bullard on behalf of Zachery Steven Bullard, Cleburne, Texas, Court of Federal Claims Number 03-1990V

294. Audrey and Mark Peterson on behalf of Montae Jahvaughn Peterson, Brooklyn, New York, Court of Federal Claims Number 03-1991V

295. Brianna Wyrick on behalf of Jordan Alexander Wyrick, Plano, Texas, Court of Federal Claims Number 03-1992V

296. Lisa Grier on behalf of Darien Walker, Columbus, Ohio, Court of Federal Claims Number 03-1993V

297. Jennifer and Gary Call on behalf of Madison Jayne Call, Columbus, Ohio, Court of Federal Claims Number 03-1994V

298. Dana and Robert Taylor on behalf of Robert Trey Taylor, Salisbury, North Carolina, Court of Federal Claims Number 03-1995V

299. Anett and Duke Romer on behalf of Seth C. Romer, Melbourne, Florida, Court of Federal Claims Number 03-1996V

300. Jennifer and Adam Smith on behalf of Austin S. Smith, Melbourne, Florida, Court of Federal Claims Number 03-1997V

301. Deborah Faust on behalf of Paul Faust, Dallas, Texas, Court of Federal Claims Number 03-1999V

302. Helene and Patrick Stant on behalf of Jason P. Stant, New Orleans, Louisiana, Court of Federal Claims Number 03-2000V

303. Laura and Kenneth Ulappa on behalf of Theodore Ulappa, Portland, Oregon, Court of Federal Claims Number 03-2001V

304. Kimberly and Lenos Baker on behalf of Kyle G. Baker, Miami, Florida, Court of Federal Claims Number 03-2003V

305. Leeann Lenoci on behalf of Luke Lenoci, Chicago, Illinois, Court of Federal Claims Number 03-2004V

306. Priscilla Richardson-Hudson on behalf of Townsend T. Connors, Melbourne, Florida, Court of Federal Claims Number 03-2006V

307. Diane and Jeffrey Farmer on behalf of James Edward Farmer, Arlington, Virginia, Court of Federal Claims Number 03-2007V

308. Joy and Russell Zachary on behalf of Ruston Lee Zachary, Baton Rouge, Louisiana, Court of Federal Claims Number 03-2009V

309. Kemble and Lamont Johnson on behalf of Javon Johnson, Philadelphia, Pennsylvania, Court of Federal Claims Number 03-2010V

310. Jennifer and Gary Smallwood on behalf of Blake Smallwood, Sacramento, California, Court of Federal Claims Number 03-2011V

311. Sharon Smith on behalf of Dane Lousignont-Smith, Boston, Massachusetts, Court of Federal Claims Number 03-2012V

312. Amy Nations on behalf of Sarah Nations, Boston, Massachusetts, Court of Federal Claims Number 03-2013V

313. Carla and Craig Miller on behalf of Jacob Charles Miller, Dallas, Texas, Court of Federal Claims Number 03-2014V

314. Melissa and Michael Markovich on behalf of Ashlyn M. Markovich, Apple Valley, Minnesota, Court of Federal Claims Number 03-2015V

315. Claudia Carrera-Meza, Chula Vista, California, Court of Federal Claims Number 03-2016V

316. Vanieda Pruitt on behalf of Quinton A. Pruitt, Alexandria, Virginia, Court of Federal Claims Number 03-2018V

317. Mevalone Johnson on behalf of Vanessa Johnson, Alexandria, Virginia, Court of Federal Claims Number 03-2019V

318. Cherry and Chris Doyle on behalf of Alexander Rober Doyle, Atlanta, Georgia, Court of Federal Claims Number 03-2020V

319. Angelique and Shawn Payne on behalf of Jordan Payne, Atlanta, Georgia, Court of Federal Claims Number 03-2021V

320. Gretta and Jon Trebilcock on behalf of Connor Trebilcock, Atlanta, Georgia, Court of Federal Claims Number 03-2022V

321. Rachel and Larry Tyler on behalf of William Preston Tyler, Atlanta, Georgia, Court of Federal Claims Number 03-2023V

322. Teresa Spohn on behalf of Ethan Spohn, Atlanta, Georgia, Court of Federal Claims Number 03-2024V

323. Amy and James Bowers on behalf of Ethan Bowers, Atlanta, Georgia, Court of Federal Claims Number 03-2025V

324. Michelle and Gary Johnson on behalf of Chloe Johnson, Atlanta, Georgia, Court of Federal Claims Number 03-2026V

325. Melissa and Scott Rady on behalf of Sullivan D. Rady, Jacksonville, Florida, Court of Federal Claims Number 03-2027V

326. Jean and James Criswell on behalf of Michael Criswell, Lake Success, New York, Court of Federal Claims Number 03-2029V

327. Allie and Bill Seyler on behalf of Billie Seyler, Lake Success, New York, Court of Federal Claims Number 03-2030V

328. Norma and Raymond Custodio on behalf of Nathaniel A. Custodio, Seaside, California, Court of Federal Claims Number 03-2031V

329. Rosemarie Maestre on behalf of Jason Maestre, Jacksonville, Florida, Court of Federal Claims Number 03-2032V

330. N. Nicole Gamot and Mark Murray on behalf of Ethan P. Murray, Melbourne, Florida, Court of Federal Claims Number 03-2035V

331. Theresa and Norman Desselles on behalf of Abigail Desselles, Great Neck, New York, Court of Federal Claims Number 03-2036V

332. Janet Moneypenny on behalf of Mikalyn Moneypenny, Deceased, Tulsa, Oklahoma, Court of Federal Claims Number 03-2037V

333. Anna and Jose Amezcua on behalf of Jose Daniel Amezcua, Temecula, Florida, Court of Federal Claims Number 03-2039V

334. Judy and Tom Boyles on behalf of Hannah Rose Boyles, Temecula, Florida, Court of Federal Claims Number 03-2040V

335. Roxana and Keith Braun on behalf of Brandon Braun, Temecula, Florida, Court of Federal Claims Number 03-2041V

336. Kimberly K. Baccus, Tulsa, Oklahoma, Court of Federal Claims Number 03-2046V

337. Lilian Piper-Idris on behalf of Khaled Idris, Atlanta, Georgia, Court of Federal Claims Number 03-2048V

338. Katherine and Mark Zepp on behalf of Austin Zepp, Atlanta, Georgia, Court of Federal Claims Number 03-2049V

339. Che'Blackett Wilcox on behalf of Kitana Wilcox, Atlanta, Georgia, Court of Federal Claims Number 03-2050V

340. Stanley Lamar Williams on behalf of Stanley Lamar Williams, II, Atlanta, Georgia, Court of Federal Claims Number 03-2051V

341. Julianne and Charlie Prescott on behalf of Charlie D. Prescott, IV, Atlanta, Georgia, Court of Federal Claims Number 03-2052V

342. Joshua Bello on behalf of Isiah Bello, Atlanta, Georgia, Court of Federal Claims Number 03-2053V

343. Beverly and Alan Chung on behalf of Alan Chung, Atlanta, Georgia, Court of Federal Claims Number 03-2054V

344. Alice Bell on behalf of Sierra Bell, Atlanta, Georgia, Court of Federal Claims Number 03-2055V

345. Tabitha Barkley on behalf of Tony Williams, Atlanta, Georgia, Court of Federal Claims Number 03-2056V

346. Marlene and Rodney Hay on behalf of Austin Taylor Hay, Atlanta, Georgia, Court of Federal Claims Number 03-2057V

347. Kathaleen Preston on behalf of James Granger Preston, Atlanta, Georgia, Court of Federal Claims Number 03-2058V

348. Latanga Landers on behalf of Demetrius D. Landers, Atlanta, Georgia, Court of Federal Claims Number 03-2059V

349. Linda Curtis on behalf of Miguel Demone Broom, Atlanta, Georgia, Court of Federal Claims Number 03-2060V

350. Belinda and William Evans on behalf of Morgan Evans, Houston, Texas, Court of Federal Claims Number 03-2064V

351. Belinda and William Evans on behalf of Basil Evans, Houston, Texas, Court of Federal Claims Number 03-2065V

352. Amy and Kevin Collins on behalf of Amanda Grace Collins, Jacksonville, Florida, Court of Federal Claims Number 03-2066V

353. Evelyn Bennett on behalf of Lance Bennett, Jr., Decatur, Alabama, Court of Federal Claims Number 02-2067V

354. Cinnamon Boyle on behalf of Dylan Boyle, Dallas, Texas, Court of Federal Claims Number 03-2068V

355. Diane and Kevin Cantrell on behalf of Ashley Cantrell, Dallas, Texas, Court of Federal Claims Number 03-2069V

356. Diane and Kevin Cantrell on behalf of Ryan Cantrell, Dallas, Texas, Court of Federal Claims Number 03-2070V

357. Gwen Cheatham on behalf of Andrew Cheatham, Dallas, Texas, Court of Federal Claims Number 03-2071V

358. Cheryl and Bruce Dalrup on behalf of Mark Dalrup, Dallas, Texas, Court of Federal Claims Number 03-2072V

359. Stacey and Brent Dickey on behalf of Hunter Dickey, Dallas, Texas, Court of Federal Claims Number 03-2073V

360. Cindy and James Farmer on behalf of Avery Farmer, Dallas, Texas, Court of Federal Claims Number 03-2074V

361. Megan and William Fusselman on behalf of Joseph Fusselman, Dallas, Texas, Court of Federal Claims Number 03-2075V

362. Teresa and Jeffrey Guyot on behalf of Andrew Guyot, Dallas, Texas, Court of Federal Claims Number 03-2076V

363. Lisa Holt on behalf of James Holt, Dallas, Texas, Court of Federal Claims Number 03-2077V

364. Macy and Monty Humble on behalf of Crawford Humble, Dallas, Texas, Court of Federal Claims Number 03-2078V

365. Sonja and Rodney Kyle on behalf of Chandler Kyle, Dallas, Texas, Court of Federal Claims Number 03-2079V

366. Kimberly and John Lindberg on behalf of Courtney Lindberg, Dallas, Texas, Court of Federal Claims Number 03-2080V

367. Dawn and Jason Coulter on behalf of Logan Coulter, Dallas, Texas, Court of Federal Claims Number 03-2081V

368. Marla and Mark Long on behalf of Kenneth Long, Dallas, Texas, Court of Federal Claims Number 03-2082V

369. Lisa Meadors on behalf of Ryan Meadors, Dallas, Texas, Court of Federal Claims Number 03-2083V

370. Leighann Medcalf on behalf of Luke Medcalf, Dallas, Texas, Court of Federal Claims Number 03-2084V

371. Lisa and Christopher Miller on behalf of Christopher Miller, Dallas, Texas, Court of Federal Claims Number 03-2085V

372. Tracy Falco Myers on behalf of Michael Myers, Dallas, Texas, Court of Federal Claims Number 03-2086V

373. Lynda and Thomas Noland on behalf of Maxwell Noland, Dallas, Texas, Court of Federal Claims Number 03-2087V

374. Angelica Shore on behalf of Morgan Shore, Dallas, Texas, Court of Federal Claims Number 03-2088V

375. Sandra and Earl Shuemaker on behalf of Noah Shuemaker, Dallas, Texas, Court of Federal Claims Number 03-2089V

376. Laurie and Greg Snyder on behalf of Nicholas Snyder, Dallas, Texas, Court of Federal Claims Number 03-2090V

377. Anselma and Marcelino Vega on behalf of Marcelino Vega, Dallas, Texas, Court of Federal Claims Number 03-2091V

378. Mark Bradley on behalf of Patrick Veras-Bradley, Dallas, Texas, Court of Federal Claims Number 03-2092V

379. Debra and Clifford Walker on behalf of Clifford Walker, Dallas, Texas, Court of Federal Claims Number 03-2093V

380. Loretta and Roger Ward on behalf of Trent Ward, Dallas, Texas, Court of Federal Claims Number 03-2094V

381. Loretta and Roger Ward on behalf of Troy Ward, Dallas, Texas, Court of Federal Claims Number 03-2095V

382. Renee Whitaker on behalf of Dylan Whitaker, Dallas, Texas, Court of Federal Claims Number 03-2096V

383. Melissa Wood on behalf of Matthew Wood, Dallas, Texas, Court of Federal Claims Number 03-2097V

384. Lori and Raymond Zinar on behalf of Noah Zinar, Dallas, Texas, Court of Federal Claims Number 03-2098V

385. Jennifer and Justin McElrath on behalf of Shauna McElrath, Dallas, Texas, Court of Federal Claims Number 03-2099V

386. Amber Cornett on behalf of Megan McGuire, Dallas, Texas, Court of Federal Claims Number 03-2100V

387. Kim and Christopher Rosengren on behalf of Christopher Rosengren, Dallas, Texas, Court of Federal Claims Number 03-2101V

388. Cathy and Joseph Semens on behalf of Tyler Semens, Dallas, Texas, Court of Federal Claims Number 03-2102V

389. Wendy and David Frazier on behalf of Adam Stephens, Dallas, Texas, Court of Federal Claims Number 03-2103V

390. Lisa and Charles Dean on behalf of Savanna Dean, Chino, California, Court of Federal Claims Number 03-2104V

391. Nancy Herard-Brown and Gerard Brown on behalf of Gerard Brown, IV, Lake Success, New York, Court of Federal Claims Number 03-2105V

392. Tracey and Todd Pilger on behalf of Blake Pilger, Dallas, Texas, Court of Federal Claims Number 03-2107V

393. Susan and James Padrino on behalf of Carma Padrino, Dallas, Texas, Court of Federal Claims Number 03-2108V

394. Angie Ha Vo and Hoang Nguyen on behalf of Parker Nguyen, Dallas, Texas, Court of Federal Claims Number 03-2109V

395. Kristi and Robert Shinsato on behalf of Aaron Shinsato, Dallas, Texas, Court of Federal Claims Number 03-2110V

396. Ivy and Nathaniel Seeds on behalf of Evan Seeds, Dallas, Texas, Court of Federal Claims Number 03-2111V

397. Shara and Derek Martineau on behalf of Jordan Martineau, Dallas, Texas, Court of Federal Claims Number 03-2112V

398. Susan Langsjoen on behalf of Mikael Langsjoen, Dallas, Texas, Court of Federal Claims Number 03-2113V

399. Valerie and Michael Zielinski on behalf of Sutter Zielinski, Dallas, Texas, Court of Federal Claims Number 03-2114V

400. Angi and Kevin Queenan on behalf of John Taylor Queenan, Dallas, Texas, Court of Federal Claims Number 03-2115V

401. Judy and Richard Burns on behalf of Stewart Burns, Dallas, Texas, Court of Federal Claims Number 03-2116V

402. Robin and Mike Dooley on behalf of Nicholas Caleb Dooley, Dallas, Texas, Court of Federal Claims Number 03-2117V

403. Beth and Kenneth Mulholland on behalf of Conner Mulholland, Dallas, Texas, Court of Federal Claims Number 03-2118V

404. Lea and Ken Inouye on behalf of Matthew Inouye, Dallas, Texas, Court of Federal Claims Number 03-2119V

405. Amy and Stefan Hanson on behalf of Amory Hanson, Dallas, Texas, Court of Federal Claims Number 03-2120V

406. Mary and Edward Heller on behalf of Edward Ryan Heller, Dallas, Texas, Court of Federal Claims Number 03-2121V

407. Sharon and Mark Bafetti on behalf of Alex John Bafetti, Dallas, Texas, Court of Federal Claims Number 03-2122V

408. Robin Bailey on behalf of Blake Stephen Bailey, Dallas, Texas, Court of Federal Claims Number 03-2123V

409. Susan and Christopher Davis on behalf of Matthew Davis, Dallas, Texas, Court of Federal Claims Number 03-2124V

410. Kathy and Fernando Galeano on behalf of Daniel Galeano, Dallas, Texas, Court of Federal Claims Number 03-2125V

411. Karen and Peter Wolk on behalf of Patrick Wolk, Dallas, Texas, Court of Federal Claims Number 03-2126V

412. Susan and Michael Neighbors on behalf of Nicholas Neighbors, Dallas, Texas, Court of Federal Claims Number 03-2127V

413. Kim and Benjamin Ng on behalf of Samuel Ng, Dallas, Texas, Court of Federal Claims Number 03-2128V

414. Valerie and Michael Zielinski on behalf of Carson Zielinski, Dallas, Texas, Court of Federal Claims Number 03-2129V

415. Rick Jeansonne on behalf of Melissa Kaye Jeansonne, Tyler, Texas, Court of Federal Claims Number 03-2132V

416. Dawn Secord on behalf of Logan Secord, Boston, Massachusetts, Court of Federal Claims Number 03-2133V

417. Kimberly and Robert Sweet on behalf of Robert Dean Sweet, Montgomery, Ohio, Court of Federal Claims Number 03-2134V

418. Daphne and Maurice Wheeler on behalf of Maurice Dean Wheeler, Jr., Hampton, Virginia, Court of Federal Claims Number 03-2135V

419. Amy and Eric Tucker on behalf of Alex Tucker, Sidney, Ohio, Court of Federal Claims Number 03-2136V

420. Tonia and James Kelley on behalf of Jacob Andrew Kelley, Hamilton, Ohio, Court of Federal Claims Number 03-2137V

421. Karen and Mark Hunnicutt on behalf of Clinton James Hunnicutt, Riverside, California, Court of Federal Claims Number 03-2138V

422. Sharmin Turner on behalf of Makenzie Alexis Turner, Dayton, Ohio, Court of Federal Claims Number 03-2139V

423. Stacey Evans and Daven Broxton on behalf of Daven Jacob Vanwinkle, Tiffin, Ohio, Court of Federal Claims Number 03-2140V

424. Sherly and Jerry York on behalf of Destinee Joy York, Templeton, California, Court of Federal Claims Number 03-2141V

425. Sharon and Ronald Robinson on behalf of Trevor David Robinson, Blue Island, Illinois, Court of Federal Claims Number 03-2142V

426. Christy and Charles Daniels on behalf of Zachary Charles Daniels, Steubenville, Ohio, Court of Federal Claims Number 03-2143V

427. Constance and Kevin Brewer on behalf of Olivia Hensley, Centerville, Ohio, Court of Federal Claims Number 03-2144V

428. Janine and Timothy O'Neill on behalf of Mitchell Patrick O'Neill, Houston, Texas, Court of Federal Claims Number 03-2145V

429. Nancy and Darrell Kennedy on behalf of Schuyler Kennedy, Atlanta, Georgia, Court of Federal Claims Number 03-2146V

430. Latisha Dorsey on behalf of Enrica Dorsey, Atlanta, Georgia, Court of Federal Claims Number 03-2147V

431. Aliza and Jeopold Burton on behalf of Alea S. Burton, Atlanta, Georgia, Court of Federal Claims Number 03-2148V

432. Valencia Hicks on behalf of Kieran Woodruff, Atlanta, Georgia, Court of Federal Claims Number 03-2149V

433. Latoya Staples on behalf of Diante Staples, Atlanta, Georgia, Court of Federal Claims Number 03-2150V

434. Ocipare and Markus McKinley on behalf of Ca-Nefer Capira McKinley, Atlanta, Georgia, Court of Federal Claims Number 03-2151V

435. Victoria Lynn Oswalt-Hite on behalf of Esabella Oswalt, Deceased, Atlanta, Georgia, Court of Federal Claims Number 03-2153V

436. Stanley Haley, Frederick, Maryland, Court of Federal Claims Number 03-2155V

437. Jessa and Keith Freeman on behalf of Amy Freeman, Alexandria, Virginia, Court of Federal Claims Number 03-2156V

438. Deborah Parr on behalf of Nicholas Parr, Temple Hills, Maryland, Court of Federal Claims Number 03-2157V

439. Trinee Maddox Ross on behalf of Shcharansky Cooper, Atlanta, Georgia, Court of Federal Claims Number 03-2158V

440. John G. Holiman on behalf of Bradley R. Holiman, Atlanta, Georgia, Court of Federal Claims Number 03-2159V

441. Angel McConnell on behalf of Angelo M. McConnell, Atlanta, Georgia, Court of Federal Claims Number 03-2160V

442. Tammy Shelton on behalf of Alicia Cathreena Moreno, Atlanta, Georgia, Court of Federal Claims Number 03-2161V

443. Karen Robinson on behalf of Kapri' Al Hardwick, Atlanta, Georgia, Court of Federal Claims Number 03-2162V

444. Lauri Hearon, Tulsa, Oklahoma, Court of Federal Claims Number 03-2163V

445. Christina Eubank on behalf of Savannah Eubank, Vienna, Virginia, Court of Federal Claims Number 03-2165V

446. Virginia and Kevin Blevins on behalf of Matthew Blevins, Vienna, Virginia, Court of Federal Claims Number 03-2166V

447. Mary Stein on behalf of Andrew Stein, Houston, Texas, Court of Federal Claims Number 03-2167V

448. Jonell and Jaykada McFadden on behalf of Jonell McFadden III, Houston, Texas, Court of Federal Claims Number 03-2168V

449. Terry and Mark Kopec on behalf of Andrew Kopec, Houston, Texas, Court of Federal Claims Number 03-2169V

450. Shelly Hume on behalf of Sean Hume, Houston, Texas, Court of Federal Claims Number 03-2170V

451. Kelly and Peter Adams on behalf of Roman Adams, Houston, Texas, Court of Federal Claims Number 03-2171V

452. Ian Whimster on behalf of Flynn Whimster, Houston, Texas, Court of Federal Claims Number 03-2172V

453. Krista and David Okrzesik on behalf of Callan Dorothy Marie Okrzesik, Sturgis, Michigan, Court of Federal Claims Number 03-2177V

454. Elizabeth Jarvis on behalf of Shannon Joy Jarvis, Lima, Ohio, Court of Federal Claims Number 03-2178V

455. Alicia Brown on behalf of Aleka Brown, Houston, Texas, Court of Federal Claims Number 03-2179V

456. Kim and Derek Robinson on behalf of Derek Jordan Robinson, Bronx, New York, Court of Federal Claims Number 03-2180V

457. Allison Anderson on behalf of Gage Alan Hixon, Houston, Texas, Court of Federal Claims Number 03-2181V

458. Karen Long on behalf of Kelli Elaine Long, Tyler, Texas, Court of Federal Claims Number 03-2182V

459. Melissa Echegaray on behalf of Brooke Echegaray, Boston, Massachusetts, Court of Federal Claims Number 03-2183V

460. Robin Blake Smith and Gary Davison on behalf of Elijah Seth Davison, Deceased, Little Rock, Arkansas, Court of Federal Claims Number 03-2184V

461. Catherine Kim on behalf of Nicholas Kim, Boston, Massachusetts, Court of Federal Claims Number 03-2187V

462. Debra Dail on behalf of Jamisen Dail, Boston, Massachusetts, Court of Federal Claims Number 03-2188V

463. Dawn Campbell on behalf of Levi Campbell, Boston, Massachusetts, Court of Federal Claims Number 03-2189V

464. Alan Paulmino on behalf of Erika Paulmino, Jersey City, New Jersey, Court of Federal Claims Number 03-2190V

465. Veronica Ramirez on behalf of Jeremiah Ramirez, San Antonio, Texas, Court of Federal Claims Number 03-2191V

466. Sandra Ortega King on behalf of Orlando King, McKinney, Texas, Court of Federal Claims Number 03-2192V

467. Lori Reed on behalf of Ryan Reed, Weatherford, Texas, Court of Federal Claims Number 03-2193V

468. Terri Eck on behalf of Adam Eck, Dallas, Texas, Court of Federal Claims Number 03-2194V

469. Vickie and Joseph Kavosh on behalf of Eyal Kavosh, Richardson, Texas, Court of Federal Claims Number 03-2195V

470. Maria and Manuel Zepeda on behalf of Manuel Zepeda, Dallas, Texas, Court of Federal Claims Number 03-2196V

471. Maria and Manuel Zepeda on behalf of Marco Zepeda, Dallas, Texas, Court of Federal Claims Number 03-2197V

472. Jesus Salinas on behalf of Christian Salinas, McAllen, Texas, Court of Federal Claims Number 03-2198V

473. Amanda Saile on behalf of Elizabeth Saile, Lafayette, Louisiana, Court of Federal Claims Number 03-2199V

474. Joann and Guadalupe Vasquez on behalf of Guadalupe Vasquez, Jr., Laredo, Texas, Court of Federal Claims Number 03-2200V

475. Carol and James Fitzpatrick on behalf of Kyle Joseph Fitzpatrick, New York, New York, Court of Federal Claims Number 03-2203V

476. Konstanza and Ernest Walker on behalf of Tristan Walker, Atlanta, Georgia, Court of Federal Claims Number 03-2204V

477. Amanda and James Tingle on behalf of Trevor Drake Tingle, Atlanta, Georgia, Court of Federal Claims Number 03-2205V

478. Dawn Tooker on behalf of Kaitlin Barnes, Bellingham, Washington, Court of Federal Claims Number 03-2207V

479. Dayna Leigh Scott, Wichita, Kansas, Court of Federal Claims Number 03-2211V

480. Lindsey and Frank Ipsen on behalf of Alisha Ipsen, Brigham City, Utah, Court of Federal Claims Number 03-2213V

481. Ellen Gourley on behalf of Adam Gourley, Boston, Massachusetts, Court of Federal Claims Number 03-2214V

482. Dana Woods on behalf of Jalen Birton, Boston, Massachusetts, Court of Federal Claims Number 03-2215V

483. Alicia Carter on behalf of Halie Carter, Boston, Massachusetts, Court of Federal Claims Number 03-2216V

484. Jennifer Robinson on behalf of Rachel Robinson, Boston, Massachusetts, Court of Federal Claims Number 03-2217V

485. Sherri and Robert Crohan on behalf of Robert J. Crohan, II, Lincoln, Rhode Island, Court of Federal Claims Number 03-2218V

486. William Morgan on behalf of Kyle Morgan, Dallas, Texas, Court of Federal Claims Number 03-2219V

487. Joell Williams on behalf of Caleb Williams, Boston, Massachusetts, Court of Federal Claims Number 03-2220V

488. Bonnie and Donald Murphy on behalf of Erin Shayleen Murphy, Olney, Maryland, Court of Federal Claims Number 03-2223V

489. Susan Walmsley, Bayshore, New York, Court of Federal Claims Number 03-2226V

490. Sheila Wendt on behalf of Howard Hunter Clark, Miami, Florida, Court of Federal Claims Number 03-2232V

491. Melanie Bash on behalf of Matthew Bash, Lake Success, New York, Court of Federal Claims Number 03-2233V

492. Tara and Richard Rogachefsky on behalf of Benjamin Rogachefsky, New York, New York, Court of Federal Claims Number 03-2234V

493. Pamela Melson-Abele on behalf of Jennifer Abele, Boston, Massachusetts, Court of Federal Claims Number 03-2235V

494. Pamela Melson-Abele on behalf of Melanie Abele, Boston, Massachusetts, Court of Federal Claims Number 03-2236V

495. Leslie Glaros on behalf of Andrea Glaros, Boston, Massachusetts, Court of Federal Claims Number 03-2237V

496. Janelle Robbins-Paiz on behalf of Maguire Paiz, Boston, Massachusetts, Court of Federal Claims Number 03-2238V

497. Vickie and Jerry Barber on behalf of Tyler Barber, Houston, Texas, Court of Federal Claims Number 03-2239V

498. Tonya Tippens on behalf of Ladai Dewan Tippens, Tyler, Texas, Court of Federal Claims Number 03-2240V

499. Tresina Everett on behalf of Matthew Preston Stuckey, Tyler, Texas, Court of Federal Claims Number 03-2241V

500. David Thames on behalf of Allen Ray Thames, Tyler, Texas, Court of Federal Claims Number 03-2242V

501. Trinda Shipp on behalf of Joshua David Shipp, Tyler, Texas, Court of Federal Claims Number 03-2246V

502. Jane and Louis Rosko on behalf of Ryan Patrick Rosko, Kennesaw, Georgia, Court of Federal Claims Number 03-2247V

503. Honah-Lee Banks on behalf of Michael Travele Banks, Cleveland, Ohio, Court of Federal Claims Number 03-2248V

504. Audrey and Richard Grant on behalf of Andrew Grant, Dallas, Texas, Court of Federal Claims Number 03-2249V

505. Sarita and Eulin Matthews on behalf of Coleman Matthews, Dallas, Texas, Court of Federal Claims Number 03-2250V

506. Karen and Wade Jameson on behalf of James Jameson, Alexandria, Virginia, Court of Federal Claims Number 03-2251V

507. Robert Veryzer, Pennsauken, New Jersey, Court of Federal Claims Number 03-2252V

508. Rick McGee on behalf of Ross McGee, Dallas, Texas, Court of Federal Claims Number 03-2253V

509. Shawna and Greg Strban on behalf of Raymond Garrett Strban, Washington, District of Columbia, Court of Federal Claims Number 03-2254V

510. Nancy Bank on behalf of Kristoffer Bank, Dallas, Texas, Court of Federal Claims Number 03-2255V

511. Denise Khan on behalf of Sarah Khan, Minneapolis, Minnesota, Court of Federal Claims Number 03-2256V

512. Trena Smoot on behalf of Kylan Smoot, Natchez, Mississippi, Court of Federal Claims Number 03-2257V

513. April Counts on behalf of Jenna Counts, Lima, Ohio, Court of Federal Claims Number 03-2259V

514. Angelica and Jorge Gomez on behalf of Adrienne Gomez, Dallas, Texas, Court of Federal Claims Number 03-2260V

515. Theresa and Joseph Counter on behalf of Joseph Alexander Counter, Carrollton, Texas, Court of Federal Claims Number 03-2261V

516. Catherine and Adam Bertrand on behalf of Benjamin Cole Bertrand, Glendale, Arizona, Court of Federal Claims Number 03-2271V

Dated: February 13, 2004.
Elizabeth M. Duke,
Administrator.

[FR Doc. 04-3864 Filed 2-23-04; 8:45 am]

BILLING CODE 4165-15-P